DEPARTMENT OF AGRICULTURE

Forest Service

Hood/Willamette Resource Advisory Committee (RAC)

AGENCY: Forest Service, USDA.

ACTION: Action of meeting.

SUMMARY: The Hood/Willamette Resource Advisory Committee (RAC) will meet on Wednesday, May 25, 2005. The meeting is scheduled to begin at 11 a.m. and will conclude at approximately 4 p.m. The meeting will be held at Hood River Ranger District office; 6780 Highway 35; Mt. Hood-Parkdale, Oregon; (541) 352-6002. The tentative agenda includes: (1) Introductions and orientation of new members; (2) Election of chairperson; (3) Decision on overhead rate for 2006 projects; (4) Presentation of 2006 Projects; (5) Public Forum; and (6) Report on National Conference and Workshop. The Public Forum is tentatively scheduled to begin at 2 p.m. Time allotted for individual presentations will be limited to 3-4 minutes. Written comments are encouraged, particularly if the material cannot be presented within the time limits for the Public Forum. Written comments may be submitted prior to the May 25th meeting by sending them to Designated Federal Official Donna Short at the address given below. A field trip to visit Title II projects is scheduled for the next day, Thursday, May 26, 2005, starting at the same location. The field trip will start at 8 a.m.

FOR FURTHER INFORMATION CONTACT: For more information regarding this meeting, contct Designated Federal Official Donna Short; Willamette National Forest; 211 E. 7th St.; Eugene, Oregon 97440; (541) 225-6470.

Dated: April 26, 2005.
Dallas J. Emch,
Forest Supervisor.

[FR Doc. 05-8753 Filed 5-2-05; 8:45 am]

BILLING CODE 3410-11-M